DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry.

Date and Time: May 29, 2003, 8:30 a.m.-4:30 p.m.; May 30, 2003, 8 a.m.-2 p.m.

Place: The Holiday Inn Select, 8120 Wisconsin Avenue, Bethesda, Maryland 20814.

Status: The meeting will be open to the public.

Purpose: The Advisory Committee provides advice and recommendations on a broad range of issues dealing with programs and activities authorized under section 747 of the Public Health Service Act as amended by The Health Professions Education Partnership Act of 1998, Pub. L. 105-392. At this meeting the Advisory Committee will continue working on its third report which will be submitted to Congress and the Secretary of the Department of Health and Human Services in November 2003. The third report focuses on disparities in health care and their implications for primary care medical education.

Agenda: The meeting on Thursday, May 29, will begin with welcoming and opening comments from the Chair and Executive Secretary of the Advisory Committee. A plenary session will follow in which the Advisory Committee members will work on drafting various sections of the third report. The Advisory Committee will also discuss various partnership opportunities with the National Advisory Council of the National Health Service Corps.

On Friday, May 30, the Advisory Committee will meet in plenary session to discuss outcome measures for programs under section 47 of the Public Health Service Act and will make plans for the October 2003 meeting. An opportunity will be provided for public comment.

For Further Information Contact: Anyone interested in obtaining a roster of members or other relevant information should write or contact Stan Bastacky, D.M.D., M.H.S.A., Acting Deputy Executive Secretary, Advisory Committee on Training in Primary Care Medicine and Dentistry, Parklawn Building, Room 9A-21, 5600 Fishers Lane, Rockville, Maryland 20857, Telephone (301) 443-6326. The web address for information on the Advisory Committee is http://bhpr.hrsa.gov/medicine-dentistry/actpcmd.

Dated: April 21, 2003.
Jane M. Harrison,
Director, Division of Policy Review and Coordination.

[FR Doc. 03-10296 Filed 4-25-03; 8:45 am]

BILLING CODE 4165-15-P